PENSION BENEFIT GUARANTY CORPORATION

29 CFR Part 4011

RIN 1212-AB12

Disclosure to Participants

AGENCY: Pension Benefit Guaranty Corporation.

ACTION: Final rule.

SUMMARY: This final rule removes PBGC's regulation on Disclosure to Participants. The regulation is obsolete as a result of the Pension Protection Act of 2006. Prior to the effective date of the statutory change, section 4011 of ERISA required certain underfunded plans to notify participants of plan funding status and the limits on the Pension Benefit Guaranty Corporation's guarantee. The Pension Protection Act of 2006 repealed section 4011 for plan years beginning after 2006 and replaced the disclosure requirement under that section with a disclosure requirement under Title I of ERISA. This rule is consistent with Executive Order 13563 on Improving Regulation and Regulatory Review.

DATES: Effective Date: July 29, 2011.

FOR FURTHER INFORMATION CONTACT: Catherine B. Klion (Klion.Catherine@pbgc.gov), Manager, Regulatory and Policy Division, Legislative and Regulatory Department, Pension Benefit Guaranty Corporation, 1200 K Street, NW., Washington, DC 20005, 202-326-4024. (TTY/TDD users may call the Federal relay service toll-free at 1-800-877-8339 and ask to be connected to 202-326-4024.)

SUPPLEMENTARY INFORMATION: Section 4011 of ERISA requires certain underfunded plans to give an annual notice to participants of plan funding status and the limits on PBGC's guarantee. PBGC's implementing regulations are at 29 CFR part 4011.

Section 501 of the Pension Protection Act of 2006, Public Law 109-280 (2006), repealed section 4011 of ERISA for plan years beginning after 2006 and replaced the disclosure requirement under that section with a disclosure requirement under Title I of ERISA (under the jurisdiction of the Department of Labor). On January 22, 2007 (at 72 FR 2615), PBGC amended its regulation part 4011 to reflect that statutory change.

Executive Order 13563 on Improving Regulation and Regulatory Review, among other requirements, directs agencies to periodically review regulations to remove those that are obsolete. As a result of that review, PBGC is issuing this final rule to remove part 4011 from its regulations.

Because this rule simply removes an obsolete regulation as a result of a statutory change, PBGC has determined that notice and public comment on this amendment are unnecessary. Further, for this same reason, PBGC finds good cause for making this final rule effective immediately.

The PBGC has determined that this action is not a “significant regulatory action” under the criteria set forth in Executive Order 12866. Because no general notice of proposed rulemaking is required for this rule, the Regulatory Flexibility Act of 1980 does not apply. See 5 U.S.C. 601(2).

PART 4011—[REMOVED]

For the reasons given above, and under the authority of 29 U.S.C. 1311, PBGC amends 29 CFR Chapter XL by removing part 4011.

Issued in Washington, DC, this 25th day of July 2011.
Joshua Gotbaum,
Director, Pension Benefit Guaranty Corporation.

[FR Doc. 2011-19182 Filed 7-28-11; 8:45 am]

BILLING CODE 7709-01-P